DEPARTMENT OF HEALTH AND HUMAN SERVICES

National Institutes of Health

National Institute on Drug Abuse; Amended Notice of Meeting

Notice is hereby given of a change in the meeting of the National Institute on Drug Abuse Special Emphasis Panel, Mechanistic Research on Neuromodulation for Substance Use Disorders Treatment, June 27, 2024, 01:00 p.m. to June 27, 2024, 05:00 p.m., National Institute of Health, National Institute on Drug Abuse, 301 North Stonestreet Avenue, Bethesda, MD, 20892 which was published in the Federal Register on April 12, 2024, FR Doc 2024-07797, 89 FR 25886.

This notice is being amended to change the meeting contact person from Brian Stefan Wolff, Ph.D., to Ipolia Ramadan, Ph.D., National Institute on Drug Abuse, National Institutes of Health, 301 North Stonestreet Avenue, Bethesda, MD 20892, ramadanir@mail.nih.gov, (301) 827-4471.

The meeting location, date, and time remain the same. The meeting is closed to the public.

Dated: June 10, 2024.
Lauren A. Fleck,
Program Analyst, Office of Federal Advisory Committee Policy.

[FR Doc. 2024-13068 Filed 6-13-24; 8:45 am]

BILLING CODE 4140-01-P